DEPARTMENT OF COMMERCE

International Trade Administration

[A-570-912]

Certain New Pneumatic Off-the-Road Tires From the People's Republic of China: Notice of Extension of Time Limit for the Final Results of the 2008-2009 Administrative Review of the Antidumping Duty Order

AGENCY: Import Administration, International Trade Administration, Department of Commerce.

DATES: Effective Date: March 18, 2011.

FOR FURTHER INFORMATION CONTACT: Erin Begnal or Raquel Silva, AD/CVD Operations, Import Administration, International Trade Administration, U.S. Department of Commerce, 14th Street and Constitution Avenue, NW., Washington, DC 20230, telephone: (202) 482-1442 or (202) 482-6475, respectively.

SUPPLEMENTARY INFORMATION:

Background

On October 26, 2009, the Department of Commerce (“Department”) initiated the administrative review of the antidumping duty order on certain new pneumatic off-the-road tires (“OTR tires”) from the People's Republic of China (“PRC”) for the period February 20, 2008, through August 31, 2009. See Initiation of Antidumping and Countervailing Duty Administrative Reviews and Request for Revocation in Part, 74 FR 54956 (October 26, 2009). On October 19, 2010, the Department published its preliminary results of the administrative review of the antidumping order on OTR tires from the PRC. See Certain New Pneumatic Off-the-Road Tires From the People's Republic of China: Preliminary Results of Antidumping Duty Administrative Review, 75 FR 64259 (October 19, 2010). On February 7, 2011, the Department published notice of a 30-day extension of time for the final results of the administrative review of the antidumping order on OTR tires from the PRC, resulting in a current due date of March 18, 2011. See Certain New Pneumatic Off-the-Road Tires From the People's Republic of China: Notice of Extension of Time Limit for the Final Results of the 2008-2009 Administrative Review of the Antidumping Duty Order, 76 FR 6603 (February 7, 2011).

Extension of Time Limit for Final Results

Section 751(a)(3)(A) of the Tariff Act of 1930, as amended (“the Act”), requires the Department to issue the final results in an administrative review within 120 days after the date on which the preliminary results are published. However, if it is not practicable to complete the review within this time period, section 751(a)(3)(A) of the Act allows the Department to extend the time period to a maximum of 180 days.

We determine that it is not practicable to complete the final results of this review within the current deadline because the Department continues to require additional time to analyze issues raised in recent surrogate value submissions, verification exhibits, and case briefs and rebuttals. Therefore, we are extending the time limit for completion of the final results by an additional 30 days, in accordance with section 751(a)(3)(A) of the Act. An additional extension of 30 days from the current deadline of March 18, 2011, would result in a new deadline of April 17, 2011. However, because April 17, 2011, falls on a Sunday, a non-business day, the final results will now be due no later than April 18, 2011, the next business day. See Notice of Clarification: Application of “Next Business Day” Rule for Administrative Determination Deadlines Pursuant to the Tariff Act of 1930, As Amended, 70 FR 24533 (May 10, 2005).

This notice is published pursuant to sections 751(a) and 777(i) of the Act.

Dated: March 14, 2011.
Christian Marsh,
Deputy Assistant Secretary for Antidumping and Countervailing Duty Operations.

[FR Doc. 2011-6446 Filed 3-17-11; 8:45 am]

BILLING CODE 3510-DS-P